DEPARTMENT OF JUSTICE

Antitrust Division

Notice Pursuant to the National Cooperative Research and Production Act of 1993—The Open Group, L.L.C.

Notice is hereby given that, on August 2, 2021, pursuant to Section 6(a) of the National Cooperative Research and Production Act of 1993, 15 U.S.C. 4301 et seq. (“the Act”), The Open Group, L.L.C. (“TOG”) has filed written notifications simultaneously with the Attorney General and the Federal Trade Commission disclosing changes in its membership. The notifications were filed for the purpose of extending the Act's provisions limiting the recovery of antitrust plaintiffs to actual damages under specified circumstances. Specifically, Agora Insights Ltd, Christchurch, NEW ZEALAND; Calsep A/S, Kongens Lyngby, DENMARK; CodeMettle, LLC, Atlanta, GA; Computer Modelling Group Ltd., Calgary, CANADA; Cynosure, Inc., Wichita, KS; Deakin University, Geelong, AUSTRALIA; EAC Business Technology LLC, Sao Bernardo do Campo, BRAZIL; Expro Group, Reading, UNITED KINGDOM; Faculdades Católicas, Rio de Janeiro, BRAZIL; Full-Stack Architecture International, LLC, Boca Raton, FL; G42 Cloud Technology L.L.C., Al Reem Island, UNITED ARAB EMIRATES, Galp Exploração e Produção Petrolífera S.A., Lisboa, PORTUGAL; Geopost Consultoria em Geologia e Geofísica Ltda, Rio de Janeiro, BRAZIL; Geoprovider AS, Stavanger, NORWAY; GeoSynergy Pty Ltd, Brisbane, AUSTRALIA; Hochschule für Technik, Wirtschaft und Kultur Leipzig, Leipzig, GERMANY; Huber+Suhner Astrolab, Warren, NJ; IesBrazil Technology & Innovation, Rio de Janeiro, BRAZIL; Instituto de Informatica da Universidade Federal do Rio Grande do Sul (UFRGS), Porto Alegre, BRAZIL; Intelie, Inc., Houston, TX; Intellicess, Inc., Austin, TX; LLC IBS Soft, Moscow, RUSSIAN FEDERATION; LogicGate, Inc., Chicago, IL; Modulo Security Solutions, Rio de Janeiro, BRAZIL; NIS j.s.c. Novi Sad, Novi Sad, SERBIA; Parasoft Corporation, Monrovia, CA; Prediktor AS, Fredrikstad, NORWAY; Red Rock Technologies, Inc., Tempe, AZ; ResFrac Corporation, Palo Alto, CA; Rock Flow Dynamics, Singapore, SINGAPORE; ScioTeq LLC, Duluth, GA; Singularity Technologies, Inc., Freehold, NJ; Snowflake Inc., San Mateo, CA; Stimline AS, Kristiansaand S, NORWAY; Strategic Communications, LLC, Louisville, KY; Tektronix, Inc., Beaverton, OR; The HDF Group, Champaign, IL; Tomahawk Robotics, Inc., Melbourne, FL; United Electronic Industries, Inc., Norwood, MA; VadaTech Incorporated, Henderson, NV; VMTC-Vincenzo Marchese Training & Consulting, London, UNITED KINGDOM; and Worley Group Inc., Houston, TX, have been added as parties to this venture.

Also, ALC Group, Kenmore, AUSTRALIA; BP Oil International Limited, Poplar, UNITED KINGDOM; Brain4ce Education Solutions Pvt. Ltd, Bangalore, INDIA; Bremer Institut far Produktion un Logistik GmbH (BIBA); Bremen, GERMANY; BusCorp Inc., Calgary, CANADA; CAST Navigation, LLC, Tewksbury, MA; CentraleSupélec, Châtenay-Malabry, FRANCE; Chengdu GKHB Information Technology Co., Ltd., Chengdu, PEOPLE'S REPUBLIC OF CHINA; CMC Electronics Aurora Inc., Sugar Grove, IL; Curtis & Associates Ltd., Port St. Mary, UNITED KINGDOM; Doccmott Enterprise Solutions (Pty) Ltd, Johannesburg, SOUTH AFRICA; ECIS Consultants Limited, Oxford, UNITED ARAB EMIRATES; GamingWorks BV, Bodegraven, THE NETHERLANDS; itSMF International, Copenhagen, DENMARK; Kepner-Tregoe, Inc., Princeton, NJ; Logic Solutions Group LLC,Houston, TX; Mentoris Group S.A.C., San Borja, PERU; OPENextech (Hangzhou) Co., Ltd, Hangzhou, PEOPLE'S REPUBLIC OF CHINA; Organizacion Educativa Certifica, S.C, Iztacalco, MEXICO; PCI Systems, Inc., Cupertino, CA; and State Bank of India, Navi Mumbai, INDIA, have withdrawn as parties to this venture.

In addition, Architecture Centre Ltd has changed its name to Advised Skills Ltd, London, UNITED KINGDOM; COTSWORKS, LLC, to COTSWORKS, Inc., Highland Heights, OH, and hpad, LLC to hpad, Inc. Bel Aire, KS.

No other changes have been made in either the membership or planned activity of the group research project. Membership in this group research project remains open, and TOG intends to file additional written notifications disclosing all changes in membership.

On April 21, 1997, TOG filed its original notification pursuant to Section 6(a) of the Act. The Department of Justice published a notice in the Federal Register pursuant to Section 6(b) of the Act on June 13, 1997 (62 FR 32371).

The last notification was filed with the Department on May 11, 2021. A notice was published in the Federal Register pursuant to Section 6(b) of the Act on May 25, 2021 (86 FR 28149).

Suzanne Morris,
Chief, Premerger and Division Statistics, Antitrust Division.

[FR Doc. 2021-18035 Filed 8-20-21; 8:45 am]

BILLING CODE P